OFFICE OF PERSONNEL MANAGEMENT

Submission for OMB Review; Comment Request for Review of a Revised Information Collection: Instructions and Model CFC Application

AGENCY: Office of Personnel Management.

ACTION: Notice.

SUMMARY: In accordance with the Paperwork Reduction Act of 1995 (Public Law 104-13, May 22, 1995), this notice announces that the Office of Personnel Management intends to submit to the Office of Management and Budget a request for clearance of a revised information collection. The model Combined Federal Campaign application and instructions are used to collect information from charitable organizations applying for eligibility.

We estimate 1,400 applications are completed annually. Each form takes approximately 3 hours to complete. The annual estimated burden is 4200 hours.

Comments are particularly invited on: whether this collection of information is necessary for the proper performance of functions of the Office of Personnel Management, and whether it will have practical utility; whether our estimate of the public burden of this collection is accurate, and based on valid assumptions and methodology; and ways in which we can minimize the burden of the collection of information on those who are to respond, through use of the appropriate technological collection techniques or other forms of information technology.

For copies of this proposal, contact Mary Beth Smith-Toomey on 202/606-8358, or e-mail to mbtoomey@opm.gov.

DATES: Comments on this proposal should be received on or before June 11, 2001.

ADDRESSes: Send or deliver comments to: Mara T. Patermaster, Office of Extragovernmental Affairs, CFC Operations, U.S. Office of Personnel Management, 1900 E Street, NW, Room 5450, Washington, DC 20415.

U.S. Office of Personnel Management.
Steven R. Cohen,
Acting Director.

[FR Doc. 01-8998 Filed 4-11-01; 8:45 am]

BILLING CODE 6325-46-P